DEPARTMENT OF DEFENSE

48 CFR Part 208 and Appendix G to Chapter 2

Defense Federal Acquisition Regulation Supplement; Technical Amendments

AGENCY: Department of Defense (DoD).

ACTION: Final rule.

SUMMARY: DoD is making technical amendments to the Defense Federal Acquisition Regulation Supplement to update titles, section numbers, and paragraph designations.

EFFECTIVE DATE: December 20, 2002.

FOR FURTHER INFORMATION CONTACT: Ms. Michele Peterson, Defense Acquisition Regulations Council, OUSD(AT&L)DPAP(DAR), IMD 3C132, 3062 Defense Pentagon, Washington, DC 20301-3062. Telephone (703) 602-0311; facsimile (703) 602-0350.

List of Subjects in 48 CFR Part 208

Government procurement.

Michele P. Peterson,
Executive Editor, Defense Acquisition Regulations Council.

Therefore, 48 CFR part 208 and Appendix G to chapter 2 are amended as follows:

1. The authority citation for 48 CFR part 208 and Appendix G to subchapter I continues to read as follows:

Authority: 41 U.S.C. 421 and 48 CFR chapter 1.

PART 208—REQUIRED SOURCES OF SUPPLIES AND SERVICES

208.001 and 208.002 [Redesignated as 208.002 and 208.003]

2. Sections 208.001 and 208.002 are redesignated as sections 208.002 and 208.003, respectively.

208.003 [Amended]

3. Newly designated section 208.003 is amended by redesignating paragraphs (f) and (g) as paragraphs (d) and (e), respectively.

208.7000 [Amended]

4. Section 208.7000 is amended in paragraph (b), in the parenthetical, by removing “Integrated Materiel Management” and adding in its place “Defense Integrated Materiel Management Manual”.

Appendix G—Activity Address Numbers

PART 2—[AMENDED]

5. Appendix G to chapter 2 is amended in part 2, in entry “DABK15”, by removing “Directorate of Contracting” and adding in its place “Contracting Command”.

[FR Doc. 02-31945 Filed 12-19-02; 8:45 am]

BILLING CODE 5001-08-P